Title 3—

The President

Proclamation 7427 of April 16, 2001

National Volunteer Week, 2001

By the President of the United States of America

A Proclamation

America is blessed with millions of individuals of good will and good works who play significant roles in making positive change in the lives of others.

While Government has great responsibilities for public safety and public health, for civil rights and common schools, compassion is the work of a Nation. Caring requires more than Government alone can provide. Many of society's greatest problems can only be solved on a personal level, between those who care and those in need.

During times of war and natural disaster, Americans have provided relief to those in need. Yet every day there are less publicized instances of human need to which America's quiet heroes respond with equal strength and vigor. Americans contribute food to soup kitchens and clothes to shelters and give love to at-risk children, counsel to those who have been abused, and friendship to those in hospitals and nursing homes. From building a new home for a young family to bringing a meal to an elderly neighbor who is house-bound, there are countless ways we can invest our time and resources to provide compassionate help to our neighbors.

The faith community is a particularly rich source of volunteer strength in America. Government can rally a military, but it cannot put hope in our hearts or a sense of purpose in our lives. Faith motivates countless volunteers and calls on them to use their talents to improve their neighborhoods in ways that are beyond Government's know-how. Church and charity, synagogue, and mosque form an essential part of our communities and their indispensable work must have an honored place in our plans and in our laws. Government can and should unleash the best impulses of the American spirit by welcoming faith-based organizations, as well as other community groups, as partners in encouraging the high calling of serving others.

This week provides an opportunity to thank those who give so much throughout the year to help those less fortunate. It should also serve as a challenge to each of us to devote more energy to seeking a common good beyond our comfort. What individual Americans do is more important than anything Government does. We must all heed Albert Schweitzer's counsel: “The only ones among you who will be really happy are those who have sought and found how to serve.”

NOW, THEREFORE, I, GEORGE W. BUSH, President of the United States of America, by virtue of the authority vested in me by the Constitution and laws of the United States, do hereby proclaim April 22 through 28, 2001, as National Volunteer Week. During this week, I call on all Americans to celebrate the invaluable work that volunteers do everyday across our country.

IN WITNESS WHEREOF, I have hereunto set my hand this sixteenth day of April, in the year of our Lord two thousand one, and of the Independence of the United States of America the two hundred and twenty-fifth.

B

[FR Doc. 01-9871

Filed 4-18-01; 8:45 am]

Billing code 3195-01-P